DEPARTMENT OF THE INTERIOR

Bureau of Land Management

[LLNVS03100 L13400000.PQ0000; 13-08807; MO# 4500054217; TAS 14X5017]

Notice Seeking Public Interest for Solar Energy Development on Public Lands in the Dry Lake Solar Energy Zone in Clark County, NV

AGENCY: Bureau of Land Management, Interior.

ACTION: Notice.

SUMMARY: The Bureau of Land Management (BLM) Southern Nevada District is seeking expressions of interest in proposing projects for utility-scale solar energy development on approximately 5,717 acres of public land identified as the Dry Lake Solar Energy Zone (SEZ) in Clark County, Nevada.

DATES: Parties interested in proposing a solar energy project on the lands described in this notice should do so by April 16, 2014.

ADDRESSES: Submissions should be sent to the Bureau of Land Management, Attention: Greg Helseth, Renewable Energy Project Manager, 4701 North Torrey Pines Drive, Las Vegas, NV 89130-2301. Electronic submissions will not be accepted.

FOR FURTHER INFORMATION CONTACT: Greg Helseth, Renewable Energy Project Manager, by telephone at 702-515-5173; or by email at ghelseth@blm.gov. Persons who use a telecommunications device for the deaf (TDD) may call the Federal Information Relay Service (FIRS) at 1-702-515-5086 to contact the above individual during normal business hours. The FIRS is available 24 hours a day, 7 days a week, to leave a message or question with the above individual. You will receive a reply during normal business hours.

SUPPLEMENTARY INFORMATION: The Dry Lake SEZ is approximately 25 miles northeast of Las Vegas, Nevada, in an undeveloped rural area. The nearest major roads accessing the Dry Lake SEZ are I-15, which runs along the southeastern border of the SEZ, and U.S. 93, which runs along the southwestern border of the SEZ. The subject public lands are described as:

Mount Diablo Meridian

T. 17 S., R. 63 E.,

Sec. 33, lots 9, 10, 13 and 14, NE¼SE¼;

Sec. 34, lots 1 thru 4, NE¼, S½NW¼, and N½S½;

Secs. 35 and 36.

T. 18 S., R. 63 E.,

Secs. 1 and 2;

Sec. 3, lots 1 thru 3, 5, 7 thru 10, 13, and 14, S½NE¼, NE¼SE¼;

Sec. 4, lot 5;

Sec. 10, lot 1;

Sec. 11, lots 1, 3 thru 5, and 9, NE¼, N½SE¼, SE¼SE¼, NE¼NW¼;

Sec. 12; that portion lying northerly and westerly of the centerline of the southbound lane of I-15;

Sec. 13, that portion lying northerly and westerly of the centerline of the southbound lane of I-15 and northerly and easterly of the centerline of U.S. Highway No. 93;

Sec. 14, lot 1.

T. 17 S., R. 64 E.,

Sec. 31, lots 5 thru 8, SW¼NE¼, E½W½, and that portion of the SE¼ lying northerly and westerly of the centerline of the southbound lane of I-15;

Sec. 32, that portion of the SW¼ lying northerly and westerly of the centerline of the southbound lane of I-15.

T. 18 S., R. 64 E.,

Secs. 6 and 7, that portion lying northerly and westerly of the centerline of the southbound lane of I-15, respectively.

The area described contains an aggregate of 6,160 acres, more or less, in Clark County, Nevada.

During the development of the Solar Energy Programmatic Environmental Impact Statement (EIS) and Record of Decision (ROD), the BLM identified 469 acres of floodplain and wetland as non-development areas within the Dry Lake SEZ, leaving 5,717 acres within the SEZ as available for development. A map of the SEZ can be viewed and downloaded at: http://solareis.anl.gov/maps/index.cfm.

The request for interest follows a 2-year planning effort on the public lands as part of the Solar Energy Programmatic EIS and ROD. On October 12, 2012, the Secretary of the Interior signed the ROD, which amended 89 resource management plans. The Solar Energy Programmatic EIS and ROD provide a road map for utility-scale solar energy development on public lands. Public comments were received during the draft, supplemental, and final Programmatic EIS process. While the ROD does not authorize any solar energy development projects or eliminate the need for site-specific environmental review for future utility-scale projects, the Dry Lake SEZ was identified by the BLM under the Solar Energy Programmatic EIS and ROD as one of the areas as best suited for solar energy development because of fewer potential resource conflicts than other areas on the public land. The Solar Energy Programmatic EIS also will help streamline site-specific environmental analysis for future proposed projects in the Dry Lake SEZ. This notice also announces the release of the “Solar Regional Mitigation Strategy for the Dry Lake Solar Energy Zone” that describes off-site mitigation costs that will be required for the development of future solar energy projects in the Dry Lake SEZ. The Mitigation Strategy is available online at http://blmsolar.anl.gov/sez/nv/dry-lake/mitigation.

Two designated transmission corridors pass through the Dry Lake SEZ. These corridors have numerous natural gas, petroleum product, and electric transmission lines, including a 500-kV transmission line.

Parties interested in proposing a solar energy development project in the Dry Lake SEZ, or portion of the Dry Lake SEZ, should submit a letter of interest and a preliminary right-of-way (ROW) application (SF-299) to the address in the ADDRESSES section. The ROW application form is available online: http://www.gsa.gov/portal/forms/download/117318. The ROW application should include a legal description and map of the specific parcel of land that is proposed for solar energy development.

The BLM Southern Nevada District has one ROW application within the Dry Lake (SEZ) serialized as NVN-084232. Applications for solar energy development are processed as ROW authorizations under Title V of the Federal Land Policy and Management Act of 1976. The regulations at 43 CFR 2804.23 authorize the BLM to determine whether competition exists among ROW applications filed for the same area. The regulations also allow the BLM to resolve any such competition by using competitive bidding procedures.

The BLM will review submissions from interested parties in response to this notice and determine whether competition exists to develop solar energy projects in the Dry Lake SEZ. If the BLM determines sufficient competition exists, the BLM may use a competitive bidding process, consistent with the regulations, to select a preferred applicant in the Dry Lake SEZ.

Authority: 43 CFR 2804.23.

Amy L. Lueders,
State Director.

[FR Doc. 2014-05633 Filed 3-14-14; 8:45 am]

BILLING CODE 4310-HC-P